FEDERAL ELECTION COMMISSION

Sunshine Act Notices

Agency: Federal Election Commission.

Date & Time: Thursday, December 6, 2007, at 10 a.m.

Place: 999 E Street, NW., Washington, DC (Ninth Floor).

Status: This meeting will be open to the public.

The Following Item Has Been Added To The Agenda: Advisory Opinion 2007-29: Representative Jesse L. Jackson, Jr.

Person To Contact For Information: Mr. Robert Biersack, Press Officer, Telephone: (202) 694-1220.

Mary W. Dove,
Secretary of the Commission.

[FR Doc. 07-5977 Filed 12-4-07; 2:28 pm]

BILLING CODE 6715-01-M